DEPARTMENT OF HEALTH AND HUMAN SERVICES

Health Resources and Services Administration

National Vaccine Injury Compensation Program: List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2019, through November 30, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: December 19, 2019.
Thomas J. Engels,
Administrator.

List of Petitions Filed

1. Christine Murschel, Coon Rapids, Minnesota, Court of Federal Claims No: 19-1700V

2. Colleen Hietpas on behalf of C. H., Neenah, Wisconsin, Court of Federal Claims No: 19-1702V

3. Fidencio Velasquez, Eagle Pass, Texas, Court of Federal Claims No: 19-1703V

4. Brooke Biel, West View, Pennsylvania, Court of Federal Claims No: 19-1704V

5. Joshua Brown, Bloomington, Indiana, Court of Federal Claims No: 19-1705V

6. Emily Thompson, Rocky Mount, North Carolina, Court of Federal Claims No: 19-1708V

7. Angela Lee, Kyle, Texas, Court of Federal Claims No: 19-1709V

8. Francisco Castellanos, Miami, Florida, Court of Federal Claims No: 19-1710V

9. Kenneth Holmes, Irving, Texas, Court of Federal Claims No: 19-1711V

10. Jaime Lehman, Miami, Florida, Court of Federal Claims No: 19-1712V

11. Mary Maloney, Stuart, Florida, Court of Federal Claims No: 19-1713V

12. Uriel Zamora and Edna Frias on behalf of A. Z., McAllen, Texas, Court of Federal Claims No: 19-1718V

13. Elizabeth Jackson, Boston, Massachusetts, Court of Federal Claims No: 19-1721V

14. Rose Dworkis, Glen Rock, New Jersey, Court of Federal Claims No: 19-1722V

15. Joanna Farjaszewska on behalf of A. M., Surprise, Arizona, Court of Federal Claims No: 19-1723V

16. Stephanie Stomel, Cherry Hill, New Jersey, Court of Federal Claims No: 19-1726V

17. Todd L. Friberg, Greensboro, North Carolina, Court of Federal Claims No: 19-1727V

18. Genevieve Avila, Waukegan, Illinois, Court of Federal Claims No: 19-1728V

19. Bobby Tate, Waupun, Wisconsin, Court of Federal Claims No: 19-1731V

20. Richard Porpora, Glen Falls, New York, Court of Federal Claims No: 19-1732V

21. Trina Garcia, Sparks, Nevada, Court of Federal Claims No: 19-1733V

22. Renee Worthy, Tallahassee, Florida, Court of Federal Claims No: 19-1735V

23. Henrietta LaRue, Lansdowne, Pennsylvania, Court of Federal Claims No: 19-1739V

24. Jonathan Cohen and Jessica Cohen on behalf of S. C., Deceased, Charlotte, North Carolina, Court of Federal Claims No: 19-1740V

25. Michelle Breslin, San Jose, California, Court of Federal Claims No: 19-1743V

26. Gary J. Hudeck, Midland, Michigan, Court of Federal Claims No: 19-1744V

27. Michael Eiras, Rocklin, California, Court of Federal Claims No: 19-1746V

28. Courtney Nina and Pedro Nina on behalf of Kennedy Nina, Odessa, Florida, Court of Federal Claims No: 19-1750V

29. Nancy Buzzelli Lilley, Greenville, North Carolina, Court of Federal Claims No: 19-1751V

30. Jason Manus, Englewood, New Jersey, Court of Federal Claims No: 19-1753V

31. Victoria Martinez, Wesley Chapel, Florida, Court of Federal Claims No: 19-1754V

32. Marlene Boger, Garrett, Indiana, Court of Federal Claims No: 19-1755V

33. Debra Owens, Beech Island, South Carolina, Court of Federal Claims No: 19-1757V

34. Esther Rubinson, Jackson, New Jersey, Court of Federal Claims No: 19-1759V

35. Nicole Abrams-Kelly, Huntersville, North Carolina, Court of Federal Claims No: 19-1760V

36. Brittany Dock on behalf of K. E., Aurora, Colorado, Court of Federal Claims No: 19-1762V

37. Thomas Joseph Grandinetti, Syracuse, New York, Court of Federal Claims No: 19-1763V

38. Catherine Doyle, Cedar Knolls, New Jersey, Court of Federal Claims No: 19-1767V

39. Kristi A. Baker, Huntington, West Virginia, Court of Federal Claims No: 19-1771V

40. Olga Capkeviciene, Lakewood, Ohio, Court of Federal Claims No: 19-1773V

41. Laura Bell Frey, Franklin, Tennessee, Court of Federal Claims No: 19-1776V

42. Morgan Gaffney, Washington, District of Columbia, Court of Federal Claims No: 19-1777V

43. Katherine Beltz, Huntersville, North Carolina, Court of Federal Claims No: 19-1779V

44. Lisa B. Vendiola, Waipahu, Hawaii, Court of Federal Claims No: 19-1780V

45. Lisa J. Prince, Plano, Texas, Court of Federal Claims No: 19-1781V

46. Noelle Lynn Czopek on behalf of C. L. H., Jr., Pittsburgh, Pennsylvania, Court of Federal Claims No: 19-1782V

47. Ann M. Arpino, New Haven, Connecticut, Court of Federal Claims No: 19-1783V

48. Edwin Weiss, New York, New York, Court of Federal Claims No: 19-1786V

49. Julie Schottler, Rochester, Minnesota, Court of Federal Claims No: 19-1787V

50. Laura Valentin Maalouf, West Chester, Pennsylvania, Court of Federal Claims No: 19-1788V

51. Randy Li, Fort Polk, Louisiana, Court of Federal Claims No: 19-1789V

52. Donna Faye McKenney, Clackamas, Oregon, Court of Federal Claims No: 19-1799V

53. Phillip Woods, Novi, Michigan, Court of Federal Claims No: 19-1800V

54. Geoffrey Clive, Kansas City, Missouri, Court of Federal Claims No: 19-1802V

55. Connie Suzann Mundinger, Columbia, South Carolina, Court of Federal Claims No: 19-1804V

56. Carl Johnson, Eagan, Minnesota, Court of Federal Claims No: 19-1807V

57. Marjorie DeCamara, Manheim, Pennsylvania, Court of Federal Claims No: 19-1808V

58. Michelle Celentano, Tucson, Arizona, Court of Federal Claims No: 19-1809V

59. Claudia Marquez, Washington, District of Columbia, Court of Federal Claims No: 19-1811V

60. Thomas Bakker, Scottsdale, Arizona, Court of Federal Claims No: 19-1814V

61. Leigh-Anne Garry on behalf of M. G., Flourtown, Pennsylvania, Court of Federal Claims No: 19-1815V

62. Maria Reiser Manwill, West Valley City, Utah, Court of Federal Claims No: 19-1818V

63. Lori Hoeffken, Richmond, Texas, Court of Federal Claims No: 19-1819V

64. Tyler Ramdhanie, Halethorpe, Maryland, Court of Federal Claims No: 19-1820V

65. Misty Gehrke, Vancouver, Washington, Court of Federal Claims No: 19-1821V

66. Joyce C. Briggs, Durham, North Carolina, Court of Federal Claims No: 19-1822V

67. Michael Dean Vucenic, Modesto, California, Court of Federal Claims No: 19-1824V

68. Melissa Fischer, Clawson, Michigan, Court of Federal Claims No: 19-1825V

[FR Doc. 2019-27963 Filed 12-26-19; 8:45 am]

BILLING CODE 4165-15-P